DEPARTMENT OF LABOR

Occupational Safety and Health Administration

[Docket No. OSHA-2023-0007]

National Advisory Committee on Occupational Safety and Health (NACOSH) Heat Injury and Illness Prevention Work Group: Notice of Meeting

AGENCY: Occupational Safety and Health Administration (OSHA), Labor.

ACTION: Notice of NACOSH Heat injury and Illness Prevention Work Group meeting.

SUMMARY: The National Advisory Committee on Occupational Safety and Health (NACOSH) Heat Injury and Illness Prevention Work Group will meet April 27, 2023, by WebEx.

DATES: The NACOSH Heat Injury and Illness Prevention Work Group (Heat Work Group) will meet from 2:00 p.m. to 4:00 p.m., ET, April 27, 2023.

ADDRESSES:

Registration: Persons wishing to attend the meeting must register via the registration link on the NACOSH web page at https://www.osha.gov/advisorycommittee/nacosh. Upon registration, attendees will receive a Webex link for remote access to the meeting.

Requests for special accommodations: Submit requests for special accommodations, including translation services, for this NACOSH workgroup meeting by April 17, 2023, to Ms. Christie Garner, Directorate of Standards and Guidance, OSHA, U.S. Department of Labor; telephone: (202) 693-2246; email: garner.christie@dol.gov.

Docket: To read or download documents in the public docket for this NACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

FOR FURTHER INFORMATION CONTACT:

For press inquiries: Mr. Frank Meilinger, Director, OSHA Office of Communications, U.S. Department of Labor; telephone: (202) 693-1999; email: meilinger.francis2@dol.gov.

For general information about NACOSH: Ms. Lisa Long, Deputy Director, Directorate of Standards and Guidance, OSHA, U.S. Department of Labor; telephone: (202) 693-2409; email: long.lisa@dol.gov.

Telecommunication requirements: For additional information about the telecommunication requirements for the meeting, please contact Ms. Christie Garner, Directorate of Standards and Guidance, OSHA, U.S. Department of Labor; telephone: (202) 693-2246; email: garner.christie@dol.gov.

For copies of this Federal Register Notice: Electronic copies of this Federal Register notice are available at www.regulations.gov. This notice, as well as news releases and other relevant information, are also available at OSHA's web page at https://www.osha.gov/advisorycommittee/nacosh.

SUPPLEMENTARY INFORMATION:

I. Background

NACOSH was established by section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. app.2), its implementing regulations (41 CFR part 102-3), and OSHA's regulations on NACOSH (29 CFR 1912.5 and 29 CFR part 1912a).

The establishment of subcommittees and subgroups, such as the NACOSH Heat Work Group, is contemplated by both the FACA's implementing regulations and OSHA's regulations on NACOSH (see, e.g., 41 CFR 102-3.135; 29 CFR 1912a.13). The Heat Work Group will operate in accordance with the FACA and these regulations.

II. Meeting Information

Public attendance will be virtual only. Meeting information will be posted in the Docket (Docket No. OSHA-2023-0007) and on the NACOSH web page, https://www.osha.gov/advisorycommittee/nacosh, prior to the meeting. Members of the public may attend the NACOSH Heat Work Group meeting. However, any participation by the public will be in listen-only mode. OSHA is not receiving public comments or requests to speak at the Heat Work Group meeting.

The NACOSH Heat Illness and Injury Prevention Work Group (Heat Work Group) will meet from 2:00 p.m. to 4:00 p.m., ET on April 17, 2023.

Meeting agenda: The tentative agenda for this meeting includes:

• Recommendations on Potential Elements of Heat Injury and Illness Prevention Rulemaking

• Discussion of presentation to NACOSH

Authority and Signature

James S. Frederick, Deputy Assistant Secretary of Labor for Occupational Safety and Health, authorized the preparation of this notice under the authority granted by 29 U.S.C. 655(b)(1) and 656(b), 5 U.S.C. App. 2, 29 CFR parts 1912 and 1912a, and Secretary of Labor's Order No. 8-2020 (85 FR 58393).

Signed at Washington, DC, on March 16, 2023.
James S. Frederick,
Deputy Assistant Secretary for Occupational Safety and Health.

[FR Doc. 2023-05770 Filed 3-20-23; 8:45 am]

BILLING CODE 4510-26-P